DEPARTMENT OF AGRICULTURE

Submission for OMB Review; Comment Request

June 12, 2008.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: National Universal Product Code (NUPC) Database.

OMB Control Number: 0584-NEW.

Summary of Collection: The Food and Nutrition Service (FNS) is authorized by the Child Nutrition and WIC Reauthorization Act of 2004-S.2507 to establish a “National Universal Product Code (NUPC) database for use by all State agencies carrying out the program.” The purpose of this new data collection process is to reduce the current burden on both manufacturers and WIC State agencies. In response to this mandate, FNS has developed a NUPC database to serve as an electronic national repository of Women, Infant, and Children (WIC) eligible foods that have been authorized or approved by FNS and/or WIC State agencies.

Need and Use of the Information: The NUPC database will help streamline the handling of product information for State agencies, retailer and manufacturers; allow more consistent oversight of WIC approved items; reduce the electronic processing needed by State agencies; standardize the way retailers obtain WIC UPC information; and make it easier for State agencies to begin using EBT processing by reducing the need to visit food retailer locations to gather UPC and other product information. The NUPC database will allow manufacturers to submit product details to the central database for consideration by participating WIC State agencies when they approve products for use.

Description of Respondents: State, Local, or Tribal Government; Business or other for-profit.

Number of Respondents: 1,040.

Frequency of Responses: Reporting: On occasion.

Total Burden Hours: 1,938.

Ruth Brown,
Departmental Information Collection Clearance Officer.

[FR Doc. E8-13610 Filed 6-16-08; 8:45 am]

BILLING CODE 3410-30-P